COMMISSION ON CIVIL RIGHTS

Sunshine Act Notice

AGENCY: United States Commission on Civil Rights

ACTION: Notice of briefing and meeting.

Date and Time: Friday, July 11, 2008; 9:30 a.m.

Place: U.S. Commission on Civil Rights, 624 Ninth Street, NW., Rm. 540, Washington, DC 20425.

Meeting Agenda

I. Approval of Agenda

II. Approval of Minutes

• June 6, 2008 Meeting.

III. Staff Director's Report

IV. Motion for Executive Session

V. Management and Operations

• Status of FY 2008 Budget.

• FY 2009 Budget Submission to Congress.

VI. Program Planning

• 2010 Program Planning.

• Briefing Report on Racial Categorization in the Census.

• Briefing Report on the Deliberate Creation of Racially Identifiable School Districts in Omaha, Nebraska.

VII. State Advisory Committee Issues

• Arkansas SAC.

• Wisconsin SAC.

VIII. Other Business

• DOT Guidance Regarding Disadvantaged Business Enterprise (“DBE”) Program.

IX. Future Agenda Items

X. Adjourn

FOR FURTHER INFORMATION CONTACT: Lenore Ostrowsky, Acting Chief, Public Affairs Unit (202) 376-8582.

Dated: July 1, 2008.
Emma Monroig,
Solicitor.

[FR Doc. 08-1410 Filed 7-1-08; 1:29 pm]

BILLING CODE 6335-01-P